DEPARTMENT OF TRANSPORTATION

Coast Guard

33 CFR Part 165

[COTP Tampa 02-053]

RIN 2115-AA97

Security Zones; Tampa, Saint Petersburg, Port Manatee, Rattlesnake, Old Port Tampa and Crystal River, Florida

AGENCY: Coast Guard, DOT.

ACTION: Notice of proposed rulemaking.

SUMMARY: The Coast Guard proposes to establish permanent security zones in Tampa, Saint Petersburg, Port Manatee, Rattlesnake, Old Port Tampa and Crystal River, Florida. These zones, which are similar to the existing temporary security zones for vessels, waterfront facilities and bridges, are needed to ensure public safety and security in the greater Tampa Bay area. Entry into these zones would be prohibited unless authorized by the Captain of the Port, or their designated representative.

DATES: Comments and related material must reach the Coast Guard on or before April 14, 2003.

ADDRESSES: You may mail comments and related material to Marine Safety Office Tampa [COTP Tampa 02-053], 155 Columbia Drive Tampa, Florida 33606. The Waterways Management Branch of Marine Safety Office Tampa maintains the public docket for this rulemaking. Comments and material received from the public, as well as documents indicated in this preamble as being available in the docket, will become part of this docket and will be available for inspection or copying at Coast Guard Marine Safety Office Tampa between 9 a.m. and 3 p.m., Monday through Friday, except Federal holidays.

FOR FURTHER INFORMATION CONTACT: LCDR David McClellan, Coast Guard Marine Safety Office Tampa, at (813) 228-2189 extension 102.

SUPPLEMENTARY INFORMATION:

Request for Comments

We encourage you to participate in this rulemaking by submitting comments and related material. If you do so, please include your name and address, identify the docket number for this rulemaking [COTP Tampa 02-053], indicate the specific section of this document to which each comment applies, and give the reason for each comment. Please submit all comments and related material in an unbound format, no larger than 8.5 by 11 inches, suitable for copying. If you would like to know that your submission reached us, please enclose a stamped, self-addressed postcard or envelope. We will consider all comments and material received during the comment period. We may change this proposed rule in view of them.

Public Meeting

We do not now plan to hold a public meeting. But you may submit a request for a meeting by writing to Coast Guard Marine Safety Office Tampa at the address under ADDRESSES explaining why one would be beneficial. If we determine that one would aid this rulemaking, we will hold one at a time and place announced by a separate notice in the Federal Register.

Background and Purpose

The terrorist attacks of September 11, 2001, killed thousands of people and heightened the need for development of various security measures throughout the seaports of the United States, particularly those vessels and facilities which are frequented by foreign nationals and are of interest to national security. Following these attacks by well-trained and clandestine terrorists, national security and intelligence officials have warned that future terrorists attacks are likely. The Captain of the Port of Tampa has determined that these security zones are necessary to protect the public, ports, and waterways of the United States from potential subversive acts.

These proposed security zones are similar to the existing temporary security zones established for vessels, waterfront facilities and bridges that will soon expire. The following seven, existing temporary final rules, which are similar to the ones we propose to make permanent, were published in the Federal Register:

Security Zone for Crystal River, FL (66 FR 62940, December 4, 2001). This temporary rule created temporary fixed security zones around the Florida Power Crystal River nuclear power plant located at the end of the Florida Power Corporation Channel and the Demory Gap Channel, Crystal River, Florida.

Security Zone Sunshine Skyway Bridge, Tampa, FL (66 FR 65838, December 21, 2001). This temporary rule created temporary fixed security zones 100 feet around all bridge supports and rocky outcroppings at the base of the supports for the Sunshine Skyway Bridge in Tampa Bay.

Security Zone Tampa, FL (67 FR 8186, February 22, 2002). This temporary rule created temporary security zones 100 yards around moored vessels carrying or transferring Liquefied Petroleum Gas (LPG), Anhydrous Ammonia (NH3) and/or grade “A” and “B” flammable liquid cargo. Additionally, any vessel transiting within 200 yards of moored vessels carrying or transferring Liquefied Petroleum Gas (LPG), Anhydrous Ammonia (NH3) and/or grade “A” and “B” cargo must proceed through the area at the minimum speed necessary to maintain safe navigation.

Security Zone Cruise Ships Tampa, FL (67 FR 10618, March 8, 2002). This temporary rule created temporary security zones 100 yards around cruise ships moored in the Port of Tampa. Additionally, any vessel transiting within 200 yards of a moored cruise ship must proceed through the area at the minimum speed necessary to maintain safe navigation.

Security Zone St. Petersburg Harbor, FL (67 FR 36098, May 23, 2002). This temporary rule established temporary fixed security zones 100 feet around seawalls, moorings, and vessels at Coast Guard and waterfront facilities and moorings in St. Petersburg Harbor, FL.

On April 16, 2002, the Captain of the Port issued a temporary rule titled “Security Zone facilities, Tampa, FL” that was published in the Federal Register on June 14, 2002 (67 FR 40861). This temporary zone created a security zone 50 yards from the shore or seawall and encompassing all piers around facilities in the following locations: Port Sutton, East Bay, Hooker's Point, Sparkman Channel, Ybor Channel and portions of Garrison Channel. Also, the security zone closed of all of Port Sutton Channel.

On December 4, 2001, the Captain of the Port issued a temporary rule titled “Security Zone Moving Cruise Ships, Tampa, FL” that was published in the Federal Register on June 24, 2002 (67 FR 42483). This temporary zone created a security zone 100 yards around all cruise ships transiting Tampa Bay.

On June 24, 2002, we published a temporary final rule (67 FR 42483) extending many of these temporary rules until October 31, 2002.

On October 30, 2002, the Captain of the Port issued a temporary final rule extending many of these temporary rules until February 28, 2003.

Discussion of Proposed Rule

The Coast Guard proposes to make the security zones, detailed in paragraph (a) of the regulatory text below, permanent.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of this proposed rule to be so minimal that a full Regulatory Evaluation under paragraph 10e of the regulatory policies and procedures of DOT is unnecessary because there is ample room for vessels to navigate around the security zones and the Captain of the Port may allow vessels to enter the zones, on a case-by-case basis with the express permission of the Captain of the Port of Tampa or their designated representative.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities because the majority of the zones are limited in size and leave ample room for vessels to navigate around the zones. The zones will not significantly impact commuter and passenger vessel traffic patterns, and vessels may be allowed to enter the zones, on a case-by-case basis, with the express permission of the Captain of the Port of Tampa or their designated representative.

If you think that your business, organization, or governmental jurisdiction qualifies as a small entity and that this rule would have a significant economic impact on it, please submit a comment (see ADDRESSES) explaining why you think it qualifies and how and to what degree this rule would economically effect it.

Assistance for Small Entities

Under section 213(a) of the Small Business Regulatory Enforcement Fairness Act of 1996 (Pub. L. 104-121), we want to assist small entities in understanding this proposed rule so that they can better evaluate its effects on them and participate in the rulemaking. If the proposed rule would effect your small business, organization, or governmental jurisdiction and you have questions concerning its provisions or options for compliance, please contact the person listed under FOR FURTHER INFORMATION CONTACT for assistance in understanding this rule. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Although this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately effect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Effect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this proposed rule and concluded that, under figure 2-1, paragraph (34)(g), of Commandant Instruction M16475.lD, this rule is categorically excluded from further environmental documentation. A “Categorical Exclusion Determination” is available in the docket where indicated under ADDRESSES.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. Add § 165.760 to read as follows:

§ 165.760 Security Zones; Tampa Bay, Saint Petersburg, Port Manatee, Rattlesnake, Old Port Tampa and Crystal River, Florida

(a) Location. The following areas, denoted by coordinates fixed using the North American Datum of 1983 (World Geodetic System 1984), are security zones:

(1) Security Zone, Rattlesnake, Tampa, FL: A permanent security zone commencing at position 27° 53.32′N, 082° 32.05′W north to 27° 53.36′N, 082° 32.05′W encompassing all waters east and south of this line in Rattlesnake, Tampa, Florida.

(2) Security Zone, Old Port Tampa, Tampa, FL: The security zone is bounded by the following points: 27° 51.62′N, 082° 33.14′W east to 27° 51.71′N, 082° 32.5′W north to 27° 51.76′N, 082° 32.5′W west to 27° 51.73′N, 082° 33.16′W and south to 27° 51.62′N, 082° 33.14′W closing off Old Port Tampa channel.

(3) Security Zone, Sunshine Skyway Bridge, Tampa, FL. 100-foot security zones around all bridge supports, dolphins and rocky outcroppings. The zones will be bounded on the northern side of the bridge at pier 135, (24 N), 27° 37.85′ N, 082° 39.78′ W, running south under the bridge to pier 88, (24 S) 27° 36.59′ N, 082° 38.86′ W. Visual identification of the zone can be defined as to the areas to the north and south where the bridge structure begins a distinct vertical rise.

(4) Security Zone, Vessels Carrying Hazardous Cargo, Tampa, FL. Fixed security zones 200 yards around moored vessels carrying or transferring Liquefied Petroleum Gas (LPG), Anhydrous Ammonia (NH3) and/or grade “A” and “B” flammable liquid cargo. Any vessel transiting within the outer 100 yards of the zone for moored vessels carrying or transferring Liquefied Petroleum Gas (LPG), Anhydrous Ammonia (NH3) and/or grade “A” and “B” cargo may operate unless otherwise directed by the Captain of the Port or his designee but must proceed through the area at the minimum speed necessary to maintain safe navigation. No vessel may enter the inner 100 yard portion of the security zone closest to the vessel.

(5) Security Zones, Cruise Ships, Piers, Seawalls, and Facilities, Port of Tampa and Port Manatee, FL. Fixed security zones within the Port of Tampa extending 50 yards from the shore or seawall and encompassing all piers around facilities in the following locations: Port Sutton, East Bay, Hooker's Point, Sparkman Channel, Ybor Channel, Port Manatee, and portions of Garrison Channel. The security zones will be divided into four zones.

(i) Zone One: The security zone is bounded by the following points: 27°54.15′N, 082° 26.11′W, east northeast to 27° 54.19′N, 082° 26.00′W, then northeast to 27° 54.37′N, 082° 25.72′W, closing off all of Port Sutton Channel, then northerly to 27° 54.48′N, 082° 25.70′W, then northeasterly and terminating at point 27° 55.27′N, 082° 25.17′W.

(ii) Zone Two: The security zone is bounded by the following points: 27° 56.05′N, 082° 25.95′W, southwesterly to 27° 56.00′N, 082° 26.07′W, then southerly to 27° 55.83′N, 082° 26.07′W, then southeasterly to 27° 55.55′N, 082° 25.75′W, then south to 27° 54.75′N, 082° 25.75′W, then southwesterly and terminating at point 27° 54.57′N, 082° 25.86′W.

(iii) Zone Three: The security zone is bounded by the following points: 27° 54.74′N, 082° 26.47′W, northwest to 27° 55.25′N, 082° 26.73′W, then north-northwest to 27° 55.60′N, 082° 26.80′W, then north-northeast to 27° 56.00′N, 082° 26.75′W, then northeast 27° 56.58′N, 082° 26.53′W, and north to 27° 57.29′N, 082° 26.51′W, west to 27° 57.29′N, 082° 26.61′W, then southerly to 27° 56.65′N, 082° 26.63′W, southwesterly to 27° 56.58′N, 082° 26.69′W, then southwesterly and terminating at 27° 56.53′N, 082° 26.90′W.

(iv) Zone Four: The security zone encompasses all piers and seawalls of the cruise terminal berths 9 and 10 in Port Manatee, Florida beginning at 27° 38.00′N, 082° 33.81′W continuing east to 27° 38.00′N, 082° 33.53′W.

(v) Zone Five: Moving security zones 200 yards around all cruise ships entering or departing the Port of Tampa, Port of Saint Petersburg, and Port Manatee, in Tampa Bay, Florida. These security zones are activated on the inbound transit when a cruise ship passes the Tampa Lighted Whistle Buoy “T”, located at 27° 35.35′N, 083° 00.71′W and terminate when the vessel is moored at a cruise ship terminal. The security zones are activated on the outbound transit when a cruise ship gets underway from a terminal and terminates when the cruise ship passes the Tampa Lighted Whistle Buoy “T”, located at 27° 35.35′N, 083° 00.71′W. Any vessel transiting within the outer 100 yards of the zone for a cruise ship may operate unless otherwise directed by the Captain of the Port or his designee but must proceed through the area at the minimum speed necessary to maintain safe navigation. No vessel may enter the inner 100 yard portion of the security zone closest to the vessel.

(vi) Zone Six: Fixed security zones are established 200 yards around moored cruise ships in Tampa, Saint Petersburg, and Port Manatee, Florida. Any vessel transiting within the outer 100 yards of the zone of moored cruise ships may operate unless otherwise directed by the Captain of the Port or his designee but must proceed through the area at the minimum speed necessary to maintain safe navigation. No vessel may enter the inner 100 yard portion of the security zone closest to the vessel.

(6) Saint Petersburg Harbor, FL. A fixed security zone encompassing all waters of Saint Petersburg Harbor (Bayboro Harbor), commencing on the north side of the channel at dayboard “10” in approximate position 27° 45.56′N, 082° 37.55′W, and westward along the seawall 50 yards from the seawall and around all moorings and vessels to the end of the cruise ship terminal in approximate position 27° 45.72′N, 082° 37.97′W. The zone will also include the Coast Guard south moorings in Saint Petersburg Harbor. The zone will extend 50 yards around the piers commencing from approximate position 27° 45.51′N, 082° 37.99′W to 27° 45.52′N, 082° 37.57′W. The southern boundary of the zone is shoreward of a line between the entrance to Salt Creek easterly to Green Daybeacon 11 (LLN 2500).

(7) Security Zone for Crystal River, FL: A permanent security zone is established around the Florida Power Crystal River nuclear power plant located at the end of the Florida Power Corporation Channel, Crystal River, Florida, encompassing the waters within the following points: 28° 56.87′N, 082° 45.17′W (Northwest corner), 28° 57.37′N, 082° 41.92′W (Northeast corner), 28° 56.81′N, 082° 45.17′W (Southwest corner), and 28° 57.32′N, 082° 41.92′W (Southeast corner). The security zone for the Demory Gap Channel encompasses the waters within the following points: 28° 57.61′N, 082° 43.42′W (Northwest corner), 28° 57.53′N, 082° 41.88′W (Northeast corner), 28° 57.60′N, 082° 43.42′W (Southwest corner), 28° 57.51′N, 082° 41.88′W (Southeast corner).

(b) Regulations. (1) Entry into or remaining within these zones is prohibited unless authorized by the Coast Guard Captain of the Port, Tampa, Florida or that officer's designated representative.

(2) Persons desiring to transit the area of the security zone may contact the Captain of the Port at telephone number 813-228-2189/91 or on VHF channel 16 to seek permission to transit the area. If permission is granted, all persons and vessels must comply with the instructions of the Captain of the Port or their designated representative.

(c) Definition. As used in this section, cruise ship means a vessel required to comply with 33 CFR part 120.

(d) Authority. In addition to 33 U.S.C. 1231 and 50 U.S.C. 191, the authority for this section includes 33 U.S.C. 1226.

Dated: January 10, 2003.
James M. Farley,
Captain, U.S. Coast Guard, Captain of The Port, Tampa, Florida.

[FR Doc. 03-3460 Filed 2-11-03; 8:45 am]

BILLING CODE 4910-15-P